DEPARTMENT OF HEALTH AND HUMAN SERVICES

Centers for Disease Control and Prevention

[30DAY-58-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Projects

National Surveillance for Hospital Health Care Workers (NaSH)—Reinstatement—National Center for Infectious Diseases (NCID)—has developed a surveillance system called the National Surveillance System for Health Care Workers (NaSH) that focuses on surveillance of exposures and infections among hospital-based health care workers (HCWs). NaSH (OMB 0920-0417) includes standardized methodology for various occupational health issues. It is a collaborative effort of the Hospital Infections Program, National Center for Infectious Diseases (NCID); the Hepatitis Branch, Division of Viral and Rickettsial Diseases, NCID; the Division of Tuberculosis (TB) Elimination, National Center for HIV, STD, and TB Prevention (NCHSTP); the National Immunization Program (NIP), and the National Institute for Occupational Safety and Health (NIOSH).

NaSH consists of modules for collection of data about various occupational issues. Baseline information about each HCW such as demographics, immune-status for vaccine-preventable diseases, and TB status is collected when the HCW is enrolled in the system. Results of routine tuberculin skin test (TST) are collected and entered in the system every time a TST is placed and read; follow-up information is collected for HCWs with a positive TST. When an HCW is exposed to blood/bloodborne pathogen, to a vaccine-preventable disease (VPD), or to an infectious TB patient/HCW, epidemiologic data are collected about the exposure. For HCWs exposed to a bloodborne pathogen (i.e., HIV, HCV, or HBC) and for susceptible HCWs exposed to VPDs, additional data are collected during follow-up visits. Once a year, hospitals complete a survey to provide denominator data and every 2-5 years, the hospitals perform a survey to assess the level of underreporting of needlesticks (HCW Survey). Optionally, hospitals may collect information about HCW noninfectious occupational injuries such as acute musculoskeletal injuries.

Data are entered into the software and transmitted on diskette to CDC. No HCW identifiers are sent to CDC. This system is protected by the Assurance of Confidentiality (308d).

Data collected in NaSH will assist hospitals, HCWs, health care organizations, and public health agencies. This system will allow CDC to monitor national trends, to identify newly emerging hazards for HCWs, to assess the risk of occupational infection, and to evaluate preventive measures, including engineering controls, work practices, protective equipment, and postexposure prophylaxis to prevent occupationally acquired infections. Hospitals that volunteer to participate in this system benefit by receiving technical support and standardized methodologies, including software, for conducting surveillance activities on occupational health.

This system was developed and piloted in large teaching hospitals (RFP-200-94-0834(P) and RFP-200-96-0524(P)). The first pilot included four hospitals and the second, five. After the refinement pilot in an additional 13 hospitals (PA-786 and interagency agreements), participation in NaSH became voluntary. The system is being made available to all acute-care hospitals in the United States wishing to participate voluntarily in the project. We anticipate no more than 100 hospitals participating by the end of fiscal 2000 and potentially 150 by fiscal 2002. To participate in NaSH, hospitals are required to provide information on all exposures to infectious agents, baseline information on the exposed HCWs, as well as the underreporting and hospital surveys.

A new component of NaSH will be a web-based surveillance for occupational exposures to blood that can be used by any health care facility and will meet OSHA requirements and needs mandated by national and state legislation. Referred to as NaSH Lite, this module is an abbreviated version of the bloodborne pathogen exposure module. Data collected through NaSH Lite will help create a national database for benchmarking and for tracking trends in sharps-injuries as well as help health care facilities to record and prevent exposures. This module will be developed with OSHA input and in conjunction with state health departments. In addition, data collected through NaSH Lite will assist health care facilities to select, implement, and evaluate strategies (including safety devices) to prevent percutaneous exposures.

The average total burden hours are 37,397.

Form | Number of respondents (hospitals) | Number of responses/ respondent | Average burden/ response (in hrs.)
Baseline Information
(Hospitals providing information only about exposed HCWs) | 70 | 300 | 5/60
(Hospitals providing information about all HCWs) | 35 | 1,000 | 20/60
TST:
TST Result | 35 | 1,000 | 10/60
TST Evaluation | 35 | 100 | 10/60
Exposure to Blood:
Exposure Event | 105 | 125 | 25/60
Exposure (NaSH Lite or web version) | 600 | 10 | 10/60
Follow-up | 105 | 60 | 5/60
PEP | 105 | 60 | 10/60
Exposure to VPD:
Summary | 105 | 3 | 20/60
HCW | 105 | 10 | 20/60
Exposure to TB:
Summary | 105 | 3 | 20/60
Noninfectious Injury | 35 | 1,000 | 10/60
HCW Survey | 35 | 500 | 10/60
Hospital Survey | 105 | 1 | 2

Dated: August 8, 2000.
Kathy Cahill,
Associate Director for Policy, Planning and Evaluation, Centers for Disease Control and Prevention (CDC).

[FR Doc. 00-20642 Filed 8-14-00; 8:45 am]

BILLING CODE 4163-18-P